DEPARTMENT OF HEALTH AND HUMAN SERVICES

Centers for Medicare & Medicaid Services

[Document Identifier: CMS-10095, CMS-10028 A, B and C and CMS-10108]

Agency Information Collection Activities: Proposed Collection; Comment Request

Agency: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Detailed Explanation of Non-Coverage and Notice of Medicare Non-Coverage and Supporting Regulations in 42 CFR 422.624 and 42 CFR 422.626; Use: Providers will deliver a Notice of Medicare Non-Coverage to enrollees at least two days prior to the end of covered services in skilled nursing facilities, home health agencies, and comprehensive outpatient rehabilitation facilities. Enrollees will use this information to determine whether they wish to appeal the service termination to the Quality Improvement Organization (QIO) in their State. If the enrollee decides to appeal, the Medicare Health organization will send the QIO and the enrollee a Detailed Explanation of Non-Coverage detailing the rationale for the termination decision. Form Number: CMS-10095 (OMB#: 0938-0910); Frequency: Reporting: Yearly; Affected Public: Business or other for-profit and Not-for-profit institutions; Number of Respondents: 454; Total Annual Responses: 47,558; Total Annual Hours: 23,780.52.

2. Type of Information Collection Request: Extension of a currently approved collection; Title of Information Collection: State Health Insurance Assistance Program (SHIP) Client Contact Form, Public and Media Activity Form, and Resource Report Form; Use: The information collected is used to fulfill the reporting requirements described in Section 4360(f) of OBRA 1990. Also, the data will be accumulated and analyzed to measure State Health Insurance Assistance Program (SHIP) performance in order to determine whether and to what extent the SHIPs have met the goals of improved CMS customer service to beneficiaries and better understanding by beneficiaries of their health insurance options. Further, the information will be used in the administration of the grants, to measure performance and appropriate use of the funds by the state grantees, to identify gaps in services and technical support needed by SHIPs, and to identify and share best practices. Form Number: CMS-10028-A, B and C (OMB#: 0938-0850); Frequency: Reporting: Quarterly and Semi-annually; Affected Public: State, Local, or Tribal Governments; Number of Respondents: 12,000; Total Annual Responses: 1,056,000; Total Annual Hours: 87,965.

3. Type of Information Collection Request: Extension of a currently approved collection; Title of Information Collection: Medicaid Managed Care Regulations for 42 CFR 438.6, 438.8, 438.10, 438.12, 438.50, 438.56, 438.102, 438.114, 438.202, 438.204, 438.206, 438.207, 438.240, 438.242, 438.402, 438.404, 438.406, 438.408, 438.410, 438.414, 438.416, 438.604, 437.710, 438.722, 438.724, and 438.810; Use: These information collection requirements implement regulations that allow States greater flexibility to implement mandatory managed care programs, implement new beneficiary protections, and eliminate certain requirements viewed by State agencies as impediments to the growth of managed care programs. Information collected includes information about managed care programs, grievances and appeals, enrollment broker contracts, and managed care organizational capacity to provide health care services. Form Number: CMS-10108 (OMB#: 0938-0920); Frequency: Reporting: Occasionally; Affected Public: State, Local, or Tribal Government; Number of Respondents: 39,114,558; Total Annual Responses: 4,640,344; Total Annual Hours: 3,930,093.5.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on March 13, 2007. CMS, Office of Strategic Operations and Regulatory Affairs, Division of Regulations Development—C, Attention: Bonnie L. Harkless, Room C4-26-05, 7500 Security Boulevard, Baltimore, Maryland 21244-1850.

Dated: January 5, 2006.
Michelle Shortt,
Director, Regulations Development Group, Office of Strategic Operations and Regulatory Affairs.

[FR Doc. E7-216 Filed 1-11-07; 8:45 am]

BILLING CODE 4120-01-P